DEPARTMENT OF COMMERCE

National Oceanic and Atmospheric Administration

RIN 0648-XD872

Endangered and Threatened Species; Take of Anadromous Fish

AGENCY: National Marine Fisheries Service (NMFS), National Oceanic and Atmospheric Administration (NOAA), Commerce.

ACTION: Applications for seven new scientific research permits, two permit modifications, and two permit renewals.

SUMMARY: Notice is hereby given that NMFS has received 11 scientific research permit application requests relating to Pacific salmon and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on May 8, 2015.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Lower Columbia River (LCR); threatened Puget Sound (PS); threatened Snake River (SR) fall-run; threatened SR spring/summer-run (spr/sum); endangered Upper Columbia River (UCR) spring-run; threatened Upper Willamette River (UWR).

Steelhead (O. mykiss): Threatened UCR; threatened SR; threatened middle Columbia River (MCR); threatened LCR; threatened PS; threatened UWR.

Sockeye salmon (O. nerka): endangered SR.

Chum salmon (O. keta): Threatened Columbia River (CR); threatened Hood Canal summer (HCS).

Coho salmon (O. kisutch): Threatened LCR; threatened Oregon Coast (OC).

Eulachon (Thaleichthys pacificus): Threatened southern distinct population segment (DPS) (S. eulachon).

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 14046-3M

The King County Department of Natural Resources and Parks (KCDNRP) is seeking to modify a five-year permit to annually take juvenile PS Chinook salmon and PS steelhead. Sampling sites would be in four Puget Sound sub-basins (Snoqualmie, Lake Washington, Duwamish, and Puyallup) located in King County, Washington. The purpose of the study is to: (1) Evaluate the effectiveness of restoration actions through biological monitoring, (2) understand the importance of off-channel habitats in providing habitat for listed species, (3) assess salmonid habitat status and trends in small streams with varying degrees of land use, and (4) assess containment levels in various freshwater fish eaten by humans. The research would benefit the affected species by determining if restoration and recovery actions are contributing to listed species recovery, providing information on use of off-channel areas by juvenile salmonids, guiding future projects based upon monitoring results, and providing habitat use information for yearling fall Chinook. The KCDNRP proposes to capture fish using beach seines, fyke nets, gill nets, hook and line, minnow traps, and both backpack and boat-operated electrofishing. Fish would be anaesthetized, identified by species, allowed to recover, and released. The researchers do not propose to kill any of the listed salmonids being captured, but a small number may die as an unintended result of the activities.

Permit 16142—3R

The Confederated Tribes of the Warm Springs Reservation of Oregon (CTWSRO) are seeking to renew a five-year permit that currently allows them to capture, handle, and release juvenile MCR steelhead in the John Day River, Oregon. The primary purpose of the research is to monitor anadromous fish response to habitat restoration projects throughout the John Day Basin, however the permit was modified in 2012 to allow the CTWSRO are to expand upon that research by adding juvenile mark/recapture studies and adult spawning surveys in various drainages in the John Day River Basin for the purpose of determining adult return success and making juvenile abundance estimates. This project would establish baseline estimates at 10 sampling locations and then resample those sites to evaluate the impact restoration projects have on juvenile Chinook and steelhead abundance. The research would continue to benefit the fish by helping managers determine the most effective ways to restore habitat.

Under the permit, the researchers would set up survey reaches at each site and use block nets at the upstream and downstream boundaries to temporarily curtail fish movement. In those reaches, fish would be collected using backpack electrofishing equipment or seine nets. Once the fish are collected, they would be placed in an aerated bucket and anesthetized. They would then be counted, measured, weighed, marked with a caudal fin clip, allowed to recover, and released back into the sampling reach. A second fish sampling event (using the same collection methods) would be conducted within 24 hours of each initial survey. The researchers would use these two samples to estimate fish abundance and density. The surveys would be conducted at the same locations on an annual basis in order to assess population trends. The researchers do not intend to kill any listed salmonids, but a small number may die as an unintended result of the activities.

Permit 16298—3R

The Shoshone-Bannock Tribes (SBT) are seeking to renew for five years a permit that has been in place since 2011. Under the renewed permit, they would annually take juvenile and adult SR spr/sum Chinook and SR steelhead in Bear Valley Creek, Idaho. The purpose of the research is to estimate fish abundance, smolt-to-adult return rates, and adult productivity in Bear Valley Creek with a high degree of accuracy. The researchers are seeking to generate information that may be used widely throughout the Salmon River subbasin. This monitoring project was recommended as part of a larger monitoring effort that developed through the Columbia Basin Coordinated Anadromous Monitoring Workshop. The work would benefit fish by giving managers key information about population status in the Salmon River subbasin which, in turn, would be used to inform recovery plans and land-management activities. The SBT would count and monitor adult spr/sum Chinook at a video station, and they would handle, measure, tag, and tissue sample juvenile SR spr/sum Chinook and steelhead at a screw trap. They would also do some harvest monitoring (creel surveys) and spawning ground surveys. The researchers do not intend to kill any listed salmonids, but a small number may die as an unintended result of the activities. In addition to this permit, the U.S. Forest Service (FS) would issue a special use permit for the SBT to conduct the work.

Permit 18819-2M

The Wild Fish Conservancy (WFC) is seeking to modify a five-year permit to annually take juvenile and adult PS Chinook salmon, HCS chum salmon, and PS steelhead. The WFC research may also cause them to take adult S eulachon, for which there are currently no ESA take prohibitions. The sampling would take place in locations throughout Hood Canal, Admiralty Inlet, and the Strait of Juan de Fuca. The purpose of the study is to determine the relative abundance, distribution, and emigration timing of juvenile HCS chum salmon throughout their range. The research would benefit the affected species by determining juvenile salmonid out-migrant timing, use of nearshore rearing habitats, and key habitat associations (i.e. eelgrass and kelp beds, gravel beaches, mudflats, and modified vs. unmodified shorelines). The WFC proposes to capture fish using fyke nets and beach seines with twice-monthly sampling from December through May. Captured salmonids would be identified by species, measured, and have a tissue sample taken (chum and Chinook salmon only). Juvenile coded-wire tagged (CWT) coho and Chinook salmon would be sacrificed to determine their natal hatchery and provide stock-specific information about their use of nearshore habitats. All other fish would be released after handling. The researchers do not propose to kill any other listed species being captured, but a small number may die as an unintended result of the activities.

Permit 18921

The Samish Indian Nation Department of Natural Resources (SINDNR) is seeking a five-year research permit to annually take juvenile PS Chinook salmon and PS steelhead. The SINDNR research may also cause them to take adult S eulachon, for which there are currently no ESA take prohibitions. The sampling would take place adjacent to Cypress Island (of the San Juan Island archipelago) in Secret Harbor. The restoration of Secret Harbor began in 2008 with the restoration of an agricultural field to its historical state by breaching an existing tidal dike and restoring tidal exchange and freshwater stream connectivity to the area. The restored estuary and salt marsh habitats are expected to enhance and improve structural habitat complexity and potentially support a greater diversity of species. The purpose of the study is to determine fish presence both within and around the Secret Harbor estuary restoration site to determine the effectiveness of restoration efforts. This research would benefit the affected species by informing future restoration designs as well as providing data to support future enhancement projects. The SINDAR proposes to capture fish using beach seines with year-round monthly sampling. Fish would be captured, identified by species, measured, and released. The researchers do not propose to kill any of the listed fish being captured, but a small number may die as an unintended result of the activities.

Permit 18952

The United States Geological Survey (USGS) has requested a one-year permit to take LCR Chinook, LCR coho, LCR steelhead, CR chum, UWR Chinook, UWR steelhead, PS Chinook, and PS steelhead while conducting the National Water Quality Monitoring Program. The purpose of the USGS study is to characterize contaminants, nutrients, suspended and fine sediment, and ecological communities at perennial-stream sites in the Willamette Valley and Puget Sound Lowlands. The ecological community surveys would consist of double pass backpack electrofishing of approximately 100 sites in June and July. The majority of the listed salmonids that may be captured would be measured, examined for external abnormalities, and released. A secondary survey would be conducted to collect and sacrifice up to 15 salmonids per site from a total of 15 sites. Depending on availability, fish collections would focus on unlisted juvenile coho salmon or cutthroat trout in the Puget Sound and Upper Willamette basins and cutthroat trout or listed juvenile coho in the Lower Willamette and Lower Columbia basins. The research may benefit the listed species by helping managers to better understand the stressors—such as contaminant loads—affecting ecological stream communities in urban areas.

Permit 19263

The Idaho Department of Fish and Game (IDFG) is seeking a five-year permit to take juvenile SR steelhead, sockeye, and spr/sum Chinook during the course of three research tasks in the upper Salmon River of Idaho State. They would (a) conduct a general fish population inventory, (b) monitor fish population responses to habitat improvement and restoration activities, and (c) document juvenile Chinook salmon rearing and winter habitat use in the Salmon River. The researchers would use drift boat and raft-mounted electrofishing gear to capture fish and estimate trout abundances in up to five monitoring reaches of the Salmon River during the fall. Captured fish would be identified by species, measured (total length & fork length), and weighed to the nearest gram. During marking runs, captured target species (rainbow trout, westslope cutthroat trout, bull trout, and mountain whitefish) would be marked with a hole punch in the caudal fin. Any juvenile Chinook salmon they encounter would be identified, measured (fork length), weighed, and examined for tags/marks. Unmarked juvenile Chinook salmon would be implanted with passive integrated transponder (PIT) tags. Some captured fish may be anesthetized to minimize stress. In all cases, adult salmonids would be avoided and none would be captured. To help with this, the researchers would operate at times and in locations where no adults are likely to be present. The research activities would benefit the fish by providing information on a suite of factors—population abundance and response to restoration actions, predator and competitor abundance and interactions, and life history and behavior characteristics—all of which would be used to inform management, restoration, and recovery decisions in the Salmon River. The researchers do not intend to kill any fish, but a small number may die as a consequence of the planned activities.

Permit 19350

The United States Fish and Wildlife Service (FWS) has requested a five-year permit to take LCR Chinook salmon, LCR Coho salmon, LCR steelhead, UWR Chinook salmon, and UWR steelhead while conducting research and monitoring in the Tryon Creek watershed of Portland, Oregon. The purpose of the project is to assess fish use of Tryon Creek above and below the Oregon Highway 43 culvert. Culvert modification and habitat enhancement projects have been implemented to improve fish passage and the research and monitoring would be used to gauge effectiveness of the restoration activities. The FWS would capture fish using backpack electrofishing equipment and beach seines. Captured fish would be measured, weighed, PIT-tagged, and tissue sampled for genetic analysis. The FWS does not intend to kill any of the salmonids being captured but a small number of juvenile fish may die as an unintended result of the activities. The research may benefit the listed species by helping managers better understand the effectiveness of habitat restoration activities.

Permit 19386

The AMEC Foster Wheel (AMECFW) is seeking a five-year research permit to annually take juvenile PS Chinook salmon and PS steelhead in the Lower Duwamish River waterway. Under a Consent Decree settled through U.S. District Court (Western District of Washington), The Boeing Company agreed to construct two habitat restoration projects near Boeing Plant 2 in the Lower Duwamish Waterway to restore and create off-channel and riparian habitats in an area where they have been largely eliminated due to channelization and industrialization. The purpose of this study is to determine if fish, including ESA listed juvenile salmonids, are using the newly created/restored habitat. This research would benefit the affected species by informing future restoration designs as well as providing data to support future enhancement projects. The researchers propose to capture fish using fyke nets during the spring salmonid outmigration (March through June). Fish would be anaesthetized, identified by species, allowed to recover, and released. The researchers do not propose to kill any of the listed fish being captured, but a small number may die as an unintended result of the activities.

Permit 19391

The SBT are seeking a five-year permit to annually take adult and juvenile SR steelhead and spr/sum Chinook while operating a screw trap and adult weir in Panther Creek, Idaho. They would also conduct some electrofishing and spawning ground surveys in the area. Most of the juvenile Chinook salmon would be captured, handled, and released. Some of them would be implanted with PIT-tags, and some would be sampled for genetic analysis. All would be allowed to recover and released to continue their downstream migration. Although the researchers are targeting Chinook, some juvenile and adult steelhead may be taken as well. In both instances, the information to be gathered would help with monitoring and recovery efforts in the area. In addition, the information may eventually be used to help guide a proposed supplementation program in the area. The research would in no way pre-dispose the approval of such a program, but if it were to be instituted, a good deal of the proposed work would be analyzed again in the context of that larger program. In the interim, the research would benefit the fish by helping managers guide current and future restoration efforts and generating information on species status that would augment a number of regional efforts. The researchers do not propose to kill any of the animals being captured, but a small number may die as an unintended consequence of the activities.

Permit 19470

The Washington State Department of Ecology (WDOE) is seeking a three-year permit to collect environmental samples in rivers and streams in the state of Washington while conducting Washington's Status and Trends Monitoring for Watershed Health and Salmon Recovery—a statewide habitat and biological monitoring program. The permit would authorize the WDOE to take juvenile and adult UCR Chinook salmon and steelhead, SR spr/sum and fall-run Chinook salmon, SR steelhead, SR sockeye salmon, and MCR steelhead. The goal of status and trends monitoring is to provide quantitative, statistically valid estimates of habitat and water quality that are important for policy and management decisions. The WDOE would monitor seven status and trends regions statewide on a four-year cycle. The information gathered by this research would benefit listed salmonids by helping resource managers evaluate the effectiveness of habitat restoration efforts and monitor aquatic species status and trends. The researchers would capture fish using boat electrofishing equipment; the listed fish would be enumerated, measured, and released immediately. At no time would adults be electrofished. If any adults are seen during the electrofishing operation, the equipment would immediately be turned off and the fish would be allowed to escape. If another adult is seen, the researchers would move the operation. And in no case would the electrofishing take place where fish are actively spawning. The researchers are not proposing to kill any of the fish they capture, but a small number may die as an unintended result of the activities.

Permit 19476

The Island County Department of Natural Resources (ICDNR) is seeking a five-year research permit to annually take juvenile PS Chinook salmon and PS steelhead. The sampling would take place in the Fidalgo Island and northern Whidbey Island shoreline area near Deception Pass at Cornet Bay and Ala Spit. The purpose of the study is to assess salmonid and forage fish use of habitat restored by removal of armoring and fill. This research would benefit the affected species by informing future restoration designs as well as providing data to support future enhancement projects. The ICDNR proposes to capture fish using a beach seine. Fish would be removed from the net and placed in buckets. All fish would be enumerated by species and the first 20 of each species would be measured for length. All fish would be released in the same location they were caught. The researchers do not propose to kill any of the listed salmonids being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 2, 2015.
Angela Somma,
Chief, Endangered Species Division, Office of Protected Resources, National Marine Fisheries Service.

[FR Doc. 2015-07944 Filed 4-7-15; 8:45 am]

BILLING CODE 3510-22-P